DEPARTMENT OF HOMELAND SECURITY

Federal Emergency Management Agency

[Docket ID: FEMA-2009-0013]

Incident Command System (ICS) Forms Booklet FEMA 502-2

AGENCY: Federal Emergency Management Agency; Department of Homeland Security

ACTION: Notice of availability; Request for comment.

SUMMARY: FEMA is requesting public comments on revisions to the National Incident Management System (NIMS) Incident Command System (ICS) Forms Booklet, FEMA 502-2. The ICS Forms Booklet was developed to assist emergency response personnel in the use of ICS and corresponding documentation during incident operations.

DATES: Comments must be received by January 15, 2010.

ADDRESSES: You may submit comments, identified by Docket ID FEMA-2009-0013, by one of the following methods:

Federal eRulemaking Portal: http://www.regulations.gov. Follow the instructions for submitting comments.

E-mail: FEMA-POLICY@dhs.gov. Include Docket ID FEMA-2009-0013 in the subject line of the message.

Fax: 703-483-2999.

Mail/Hand Delivery/Courier: Regulation & Policy Team, Office of Chief Counsel, Federal Emergency Management Agency, Room 835, 500 C Street, SW., Washington, DC 20472.

Instructions: All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

Docket: For access to the docket to read background documents or comments received, go to the Federal eRulemaking Portal at http://www.regulations.gov. Submitted comments may also be inspected at FEMA, Office of Chief Counsel, Room 835, 500 C Street, SW., Washington, DC 20472.

FOR FURTHER INFORMATION CONTACT: Mark Kurisko, Program Specialist, 999 E Street, NW., Room 301, Washington, DC 20463, 202-646-2840.

SUPPLEMENTARY INFORMATION: The National Incident Management System (NIMS) Incident Command System (ICS) Forms Booklet (FEMA 502-2) is designed to assist emergency response personnel in the use of ICS and corresponding documentation during incident operations. This booklet is a companion document to the NIMS ICS Field Operating Guide (FOG), FEMA 502-1, which provides general guidance to emergency responders on implementing ICS. This booklet is also meant to complement existing incident management programs and does not replace relevant emergency operations plans, laws, and ordinances. These forms are designed for use within the Incident Command System, and are not targeted for use in Area Command or in Multi-Agency Coordination Systems. This updated version of the ICS Forms Booklet incorporates best practices, lessons learned, and input from emergency response stakeholders.

The ICS Forms Booklet (FEMA 502-2) is available for reviewing at http://www.regulations.gov under FEMA-2009-0013. FEMA is accepting comments during this public comment period and will incorporate them, as appropriate, to finalize and release the ICS Forms Booklet.

Authority: The authority for the ICS Forms Booklet is derived from Homeland Security Act of 2002 and Homeland Security Presidential Directive (HSPD)—5.

Dated: November 17, 2009.
W. Craig Fugate,
Administrator, Federal Emergency Management Agency.

[FR Doc. E9-29937 Filed 12-15-09; 8:45 am]

BILLING CODE 9111-46-P